FEDERAL COMMUNICATIONS COMMISSION

47 CFR Part 20

[PS Docket Nos. 11-153; 10-255; FCC 14-118]

Facilitating the Deployment of Text-to-911 and Other Next Generation 911 Application; Framework for Next Generation 911 Deployment

AGENCY: Federal Communications Commission.

ACTION: Final rule; announcement of effective date.

SUMMARY: In this document, the Commission announces that the Office of Management and Budget (OMB) has approved on an emergency basis, for a period of six months, the information collection associated with the Commission's Second Report and Order that adopted rules requiring Commercial Mobile Radio Service (CMRS) providers and other providers of interconnected text messaging applications (collectively, “covered text providers”) to provide text-to-911 service.

This document is consistent with the Second Report and Order, which stated that the Commission would publish a document in the Federal Register announcing the effective date of those rules.

DATES: The amendments to 47 CFR 20.18(n)(10)(i) and (ii), (n)(10)(iii)(C), and (n)(11) published at 79 FR 55367, September 16, 2014, are effective November 14, 2014.

FOR FURTHER INFORMATION CONTACT: Timothy May, Policy and Licensing Division, Public Safety and Homeland Security Bureau, at (202) 418-1463, or email: timothy.may@fcc.gov.

SUPPLEMENTARY INFORMATION: This document announces that, on October 27, 2014, OMB approved on an emergency basis, for a period of six months, the information collection requirements relating to the text-to-911 rules contained in the Commission's Second Report and Order, FCC 14-118, published at 79 FR 55367, September 16, 2014. The OMB Control Number is 3060-1204. The Commission publishes this document as an announcement of the effective date of the rules. If you have any comments on the burden estimates listed below, or how the Commission can improve the collections and reduce any burdens caused thereby, please contact Benish Shah, Federal Communications Commission, Room 1-A866, 445 12th Street SW., Washington, DC 20554. Please include the OMB Control Number, 3060-1204, in your correspondence. The Commission will also accept your comments via email at PRA@fcc.gov. To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received emergency OMB approval on October 27, 2014, for the information collection requirements contained in the modifications to the Commission's rules in 47 CFR part 20.

Under 5 CFR 1320, an agency may not conduct or sponsor a collection of information unless it displays a current, valid OMB Control Number.

No person shall be subject to any penalty for failing to comply with a collection of information subject to the Paperwork Reduction Act that does not display a current, valid OMB Control Number. The OMB Control Number is 3060-1204.

The foregoing notice is required by the Paperwork Reduction Act of 1995, Pub. L. 104-13, October 1, 1995, and 44 U.S.C. 3507.

The total annual reporting burdens and costs for the respondents are as follows:

OMB Control Number: 3060-1204.

OMB Approval Date: October 27, 2014.

OMB Expiration Date: April 30, 2015.

Title: Deployment of Text-to-911.

Form Number: Public Safety Answering (PSAP) Text-to-911 Registration Form (No Form Number Assigned).

Respondents: Businesses or other for-profit; not-for-profit institutions; and state, local or tribal governments.

Number of Respondents and Responses: 3,370 respondents; 58,012 responses.

Estimated Time per Response: 1-8 hours.

Frequency of Response: One-time reporting requirements.

Obligation to Respond: Mandatory. Statutory authority for this information collection is contained in 47 U.S.C. 151, 152, 154(i), 154(j), 154(o), 251(e), 303(b), 303(g), 303(r), 316, and 403.

Total Annual Burden: 76,237 hours.

Total Annual Cost: None.

Nature and Extent of Confidentiality: The Commission will work with respondents to ensure that their concerns regarding the confidentiality of any proprietary or business-sensitive information are resolved in a manner consistent with the Commission's rules.

Privacy Act Impact Assessment: This information collection does not affect individuals or households, and therefore a privacy impact assessment is not required.

Needs and Uses: On August 13, 2014, the Commission released the Order, FCC 14-118, published at 79 FR 55367, September 16, 2014, adopting final rules—containing information collection requirements—to enable the Commission to implement text-to-911 service pursuant to the Second Report and Order, FCC 14-118, released August 13, 2014. The Second Report and Order adopts new rules to commence the implementation of text-to-911 service with an initial deadline of December 31, 2014 for all covered text providers to be capable of supporting text-to-911 service. The Second Report and Order also provides that covered text providers then have a six-month implementation period—they must begin routing all 911 text messages to a Public Safety Answering Point (PSAP) by June 30, 2015 or within six months of a valid PSAP request for text-to-911 service, whichever is later. To implement these requirements, the Commission seeks to collect information primarily for a database in which PSAPs will voluntarily register that they are technically ready to receive text messages to 911. As PSAPs become text-ready, they may either register in the PSAP database (or, if the database is not yet available, submit a notification to PS Docket Nos. 10-255 and 11-153), or provide other written notification reasonably acceptable to a covered text messaging provider. Either measure taken by the PSAP shall constitute sufficient notification pursuant to the adopted rules in the Second Report and Order. PSAPs and covered text providers may mutually agree to an alternative implementation timeframe (other than six months). Covered text providers must notify the FCC of the dates and terms of the alternate timeframe that they have mutually agreed on with PSAPs within 30 days of the parties' agreement.

Additionally, the rules adopted by the Second Report and Order also include other information collections for third party notifications that need to be effective in order to implement text-to-911, including necessary notifications to consumers, covered text providers, and the Commission. These notifications are essential to ensure that all of the affected parties are aware of the limitations, capabilities, and status of text-to-911 services. These information collections will enable the Commission to meet objectives to commence the implementation of text-to-911 service as of December 31, 2014 in furtherance of its core mission to ensure the public's safety.

Federal Communications Commission.
Gloria J. Miles,
Federal Register Liaison.

[FR Doc. 2014-26544 Filed 11-13-14; 8:45 am]

BILLING CODE 6712-01-P